OFFICE OF PERSONNEL MANAGEMENT

Excepted Service

AGENCY: U.S. Office of Personnel Management (OPM).

ACTION: Notice.

SUMMARY: This notice identifies Schedule A, B, and C appointing authorities applicable to a single agency that were established or revoked from November 1, 2011 to November 30, 2011.

FOR FURTHER INFORMATION CONTACT: Phyllis Proctor, Senior Executive Resource Services, Executive Resources and Employee Development, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes annually a consolidated listing of all Schedule A, B, and C appointing authorities current as of June 30 as a notice in the Federal Register.

Schedule A

Schedule A authorities to report during November 2011.

11. Department of Homeland Security (Sch. A, 213.3111)

(e) Papago Indian Agency—Not to exceed 25 positions of Immigration and Customs Enforcement (ICE) Tactical Officers (Shadow Wolves) in the Papago Indian Agency in the state of Arizona when filled by the appointment of persons of one-fourth or more Indian blood. (Formerly 213.3105(b)(9)).

Schedule B

No Schedule B authorities to report during November 2011.

Schedule C

The following Schedule C appointments were approved during November 2011.

Agency name | Organization name | Position title | Authorization No. | Effective date
DEPARTMENT OF AGRICULTURE | Office of the Assistant Secretary for Civil Rights | Senior Advisor | DA120004 | 11/4/2011
| Farm Service Agency | Special Assistant | DA120008 | 11/3/2011
| Rural Utilities Service | Staff Assistant | DA120009 | 11/7/2011
| Foreign Agricultural Service | Confidential Assistant | DA120010 | 11/7/2011
| Office of the Under Secretary for Rural Development | Special Assistant | DA120011 | 11/4/2011
| Office of the Assistant Secretary for Administration | Special Assistant | DA120015 | 11/4/2011
| Rural Housing Service | Special Assistant | DA120016 | 11/10/2011
DEPARTMENT OF COMMERCE | Office of Public Affairs | Press Secretary and Senior Communications Advisor | DC120011 | 11/1/2011
| Office of the Assistant Secretary for Economic Development | Director, Office of Innovation and Entrepreneurship | DC120012 | 11/1/2011
| International Trade Administration | Deputy Director of Public Affairs | DC120013 | 11/1/2011
| Office of Legislative and Intergovernmental Affairs | Legislative Assistant | DC120015 | 11/18/2011
| Office of the Assistant Secretary for Manufacturing and Services | Senior Advisor | DC120019 | 11/29/2011
DEPARTMENT OF DEFENSE | Office of the Secretary | Advance Officer | DD110132 | 11/28/2011
| Office of the Secretary | Special Assistant | DD110135 | 11/3/2011
| Office of the Assistant Secretary of Defense (Asian and Pacific Security Affairs) | Special Assistant (East Asia) | DD120004 | 11/1/2011
| Office of Assistant Secretary of Defense (Legislative Affairs) | Special Assistant | DD120010 | 11/18/2011
DEPARTMENT OF THE ARMY | Office Assistant Secretary Army (Civil Works) | Special Assistant (Civil Works) | DW120005 | 11/10/2011
DEPARTMENT OF THE NAVY | Office of the Under Secretary of the Navy | Special Assistant | DN110041 | 11/8/2011
DEPARTMENT OF EDUCATION | Office of the Secretary | Director, Strategic Partnerships | DB110120 | 11/2/2011
| Office of Legislation and Congressional Affairs | Deputy Assistant Secretary | DB120005 | 11/3/2011
| Office of Planning, Evaluation and Policy Development | Special Assistant | DB120006 | 11/15/2011
| Office of the Under Secretary | Confidential Assistant | DB120009 | 11/7/2011
| Office of Innovation and Improvement | Special Assistant | DB120010 | 11/2/2011
| Office for Civil Rights | Senior Counsel | DB120012 | 11/4/2011
| Office of Planning, Evaluation and Policy Development | Confidential Assistant | DB120013 | 11/4/2011
| Office of the General Counsel | Confidential Assistant | DB120017 | 11/10/2011
| Office of the Under Secretary | Special Assistant | DB120021 | 11/18/2011
DEPARTMENT OF ENERGY | Office of Management | Special Assistant | DE120014 | 11/4/2011
ENVIRONMENTAL PROTECTION AGENCY | Office of the Administrator | Deputy White House Liaison | EP120008 | 11/22/2011
FEDERAL COMMUNICATIONS COMMISSION | Office of Legislative Affairs | Deputy Director, OLA | FC120001 | 11/3/2011
GENERAL SERVICES ADMINISTRATION | The Heartland Region | Special Assistant | GS120002 | 11/7/2011
DEPARTMENT OF HEALTH AND HUMAN SERVICES | Office of the Assistant Secretary for Public Affairs | Communications Director for Public Health | DH120004 | 11/1/2011
| Office of the Assistant Secretary for Legislation | Special Assistant for Discretionary Health Programs | DH120010 | 11/8/2011
| Office of the Assistant Secretary for Legislation | Confidential Assistant for Mandatory Health Programs | DH120011 | 11/10/2011
DEPARTMENT OF HOMELAND SECURITY | Federal Emergency Management Agency | Senior Advisor | DM120019 | 11/4/2011
| Office of the Assistant Secretary for Public Affairs | Speechwriter | DM120020 | 11/2/2011
| U.S. Customs and Border Protection | Senior Advisor for Strategic Communications and Response | DM120023 | 11/9/2011
| Federal Emergency Management Agency | Director of Public Affairs | DM120024 | 11/9/2011
| Office of the Secretary | Advance Representative | DM120025 | 11/9/2011
| Office of the Assistant Secretary for Public Affairs | Director of Special Projects | DM120026 | 11/9/2011
| Office of the Under Secretary for Science and Technology | Special Assistant for Science and Technology | DM120027 | 11/9/2011
| Office of the Under Secretary for Management | Senior Advisor | DM120034 | 11/30/2011
DEPARTMENT OF HOUSING AND URBAN DEVELOPMENT | Office of Public Affairs | Press Secretary | DU120002 | 11/8/2011
| Office of Congressional and Intergovernmental Relations | Congressional Relations Officer | DU120005 | 11/30/2011
| Office of Congressional and Intergovernmental Relations | Congressional Relations Specialist | DU120006 | 11/9/2011
| Office of Congressional and Intergovernmental Relations | Senior Legislative Advisor | DU120007 | 11/8/2011
| Office of the Secretary | Deputy Chief of Staff | DU120009 | 11/15/2011
| Office of Congressional and Intergovernmental Relations | Congressional Relations Officer | DU120011 | 11/30/2011
DEPARTMENT OF THE INTERIOR | Secretary's Immediate Office | Program Coordinator | DI120008 | 11/1/2011
| Secretary's Immediate Office | White House Liaison | DI120009 | 11/10/2011
DEPARTMENT OF JUSTICE | Office of the Attorney General | White House Liaison | DJ120008 | 11/9/2011
| Office of Public Affairs | Deputy Director | DJ120009 | 11/1/2011
| Office of the Deputy Attorney General | Deputy Chief of Staff and Senior Counsel | DJ120012 | 11/29/2011
| Foreign Claims Settlement Commission | Special Assistant | DJ120013 | 11/30/2011
DEPARTMENT OF LABOR | Office of Congressional and Intergovernmental Affairs | Legislative Assistant | DL120009 | 11/3/2011
| Employee Benefits Security Administration | Special Assistant | DL120011 | 11/3/2011
| Office of the Secretary | Staff Assistant | DL120013 | 11/18/2011
| Office of the Secretary | Special Assistant | DL120015 | 11/21/2011
OFFICE OF MANAGEMENT AND BUDGET | Office of the Director | Senior Advisor | BO120001 | 11/10/2011
OFFICE OF SCIENCE AND TECHNOLOGY POLICY | Office of Science and Technology Policy | Confidential Assistant | TS120001 | 11/21/2011
PRESIDENTS COMMISSION ON WHITE HOUSE FELLOWSHIPS | Presidents Commission on White House Fellowships | Communication Associate | WH120001 | 11/2/2011
DEPARTMENT OF STATE | Office of the Chief of Protocol | Protocol Officer (Dpd) | DS120004 | 11/8/2011
| Office of the Under Secretary for Management | Staff Assistant | DS120011 | 11/3/2011
DEPARTMENT OF THE TREASURY | Assistant Secretary (Public Affairs) | Senior Advisor | DY120016 | 11/15/2011
| Secretary of the Treasury | Advance Specialist | DY120017 | 11/4/2011
| Assistant Secretary (Public Affairs) | Press Assistant | DY120028 | 11/30/2011

The following Schedule C appointment authorities were revoked during November 2011.

Agency name | Organization name | Position title | Authorization No. | Date revoked
DEPARTMENT OF AGRICULTURE | Office of the Under Secretary Farm and Foreign Agricultural Service | Special Assistant | DA090262 | 11/18/2011
| Office of Assistant Secretary for Congressional Relations | Senior Advisor for Labor Affairs | DA100079 | 11/12/2011
DEPARTMENT OF COMMERCE | Office of Policy and Strategic Planning | Senior Policy Advisor | DC100107 | 11/5/2011
| Office of Public Affairs | Confidential Assistant | DC110008 | 11/5/2011
CONSUMER PRODUCT SAFETY COMMISSION | Office of Commissioners | Special Assistant (Legal) | PS100005 | 11/18/2011
COUNCIL ON ENVIRONMENTAL QUALITY | Council on Environmental Quality | Special Assistant (Land and Water Ecosystems) | EQ100010 | 11/4/2011
DEPARTMENT OF DEFENSE | Office of the Under Secretary of Defense (Personnel and Readiness) | Special Assistant to UDSD WWCTP | DD100192 | 11/5/2011
| Director for Communication Plans and Integration | Associate Director for Communication, Plans and Integration | DD110012 | 11/12/2011
| Office of the Secretary | Director, Travel Operations | DD090252 | 11/25/2011
DEPARTMENT OF JUSTICE | Office of Legislative Affairs | Confidential Assistant | DJ100110 | 11/4/2011
DEPARTMENT OF ENERGY | Office of Public Affairs | Press Secretary | DE090098 | 11/23/2011
| Director, Office of Scheduling and Advance | Trip Coordinator | DE100129 | 11/8/2011
DEPARTMENT OF EDUCATION | Office of the Deputy Secretary | Special Assistant | DB100041 | 11/12/2011
| Office of the Under Secretary | Director, White House Initiative on Educational Excellence for Hispanic Americans | DB110086 | 11/14/2011
DEPARTMENT OF HOMELAND SECURITY | Office of the Assistant Secretary for Policy | Business Liaison | DM100004 | 11/18/2011
| Office of the Assistant Secretary for Policy | Policy Analyst | DM110097 | 11/18/2011
| Office of the Assistant Secretary for Policy | Special Assistant | DM100125 | 11/29/2011
| Office of the Assistant Secretary for Policy | Senior Advisor | DM110112 | 11/5/2011
DEPARTMENT OF HOUSING AND URBAN DEVELOPMENT | Office of the Secretary | Senior Advisor | DU100052 | 11/4/2011
SMALL BUSINESS ADMINISTRATION | Office of Field Operations | Senior Advisor to the Associate Administrator for Field Operations | SB090063 | 11/4/2011
DEPARTMENT OF STATE | Office of the Secretary | Special Assistant | DS090137 | 11/14/2011
| Office of the Under Secretary for Arms Control and International Security | Staff Assistant | DS110054 | 11/30/2011
DEPARTMENT OF TRANSPORTATION | Public Affairs | Press Secretary | DT100005 | 11/10/2011
UNITED STATES TAX COURT | United States Tax Court | Chambers Administrator | JC080032 | 11/3/2011

Authority: 5 U.S.C. 3161, 3301 and 3302; E.O. 10577, 3 CFR 1954-1958 Comp., p. 218.

U.S. Office of Personnel Management.
John Berry,
Director.

[FR Doc. 2012-10334 Filed 4-27-12; 8:45 am]

BILLING CODE 6325-39-P